FEDERAL COMMUNICATIONS COMMISSION

Public Information Collections Approved by Office of Management and Budget

June 4, 2003.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0810.

OMB Approval Date: 05/23/2003.

Expiration Date: 05/31/2006.

Title: Procedures for Designation of Eligible Telecommunications Carriers Pursuant to Section 214(e)(6) of the Communications Act of 1934, as amended.

Form No.: N/A.

Estimated Annual Burden: 100 responses; 6,200 total annual hours; 62 hours per respondent.

Needs and Uses: 47 U.S.C. 214(e)(6) states that a telecommunications carrier that is not subject to the jurisdiction of a state may request that the Commission determine whether it is eligible. The Commission must evaluate whether such telecommunications carriers meet the eligibility criteria set forth in the Act. In this Order, the Commission concludes that petitions for designation filed under section 214(e)(6) relating to “near reservation” areas will not be considered as petitions relating to tribal lands and as a result, petitioners seeking ETC designation in such areas must follow the procedures out-lined in the Twelfth Report and Order for non-tribal lands prior to submitting a request for designation to this Commission under section 214(e)(6).

OMB Control No.: 3060-0514.

OMB Approval Date: 05/20/2003.

Expiration Date: 05/31/2006.

Title: Section 43.21 (b)—Holding Company Annual Report.

Form No.: N/A.

Estimated Annual Burden: 20 responses; 20 total annual hours; 1 hour per respondent.

Needs and Uses: The SEC 10K form is needed from holding companies of communications common carriers to provide the Commission with the data required to fulfill its regulatory responsibilities and by the public in analyzing the industry. Selected information is compiled and published in the Commission's annual common carrier statistical publication.

OMB Control No.: 3060-0400.

OMB Approval Date: 05/20/2003.

Expiration Date: 05/31/2006.

Title: Tariff Review Plan.

Form No.: N/A.

Estimated Annual Burden: 41 responses; 2,501 total annual hours; 61 hours per respondent.

Needs and Uses: Certain local exchange carriers are required annually to submit Tariff Review Plan in partial fulfillment of cost support material required by 47 CFR part 61. The information used by FCC and the public to determine the justness and reasonableness of rates, terms and conditions in tariffs as required by the Communications Act of 1934, as amended.

OMB Control No.: 3060-0894.

OMB Approval date: 05/09/2003.

Expiration Date: 05/31/2006.

Title: Certification Letter Accounting for Receipt of Federal Support—CC Docket Nos. 96-45 and 96-262.

Form No.: N/A.

Estimated Annual Burden: 51 responses; 153 total annual hours; 3 hours per respondent.

Needs and Uses: The Commission requires states to certify that carriers within the state had accounted for its receipt of federal support in its rates or otherwise used the support pursuant with Section 254 (e).

OMB Control No.: 3060-0755.

OMB Approval Date: 05/09/2003.

Expiration Date: 05/31/2006.

Title: 47 CFR Sections 59.1-59.4—Infrastructure Sharing.

Form No.: N/A.

Estimated Annual Burden: 1,425 responses; 2,325 total annual hours; 1-2 hours per respondent.

Needs and Uses: In CC Docket No. 96-237, the Commission implemented the infrastructure sharing provisions of the Communicaitons Act of 1934, as added by the Telecommunications Act of 1996. Section 259 requires incumbent LECs to file any arrangements showing the conditions under which they share infrastructure per section 259. Section 259 also requires incumbent LECs to provide information on deployments of new services and equipment to qualifying carriers. The Commission also requires incumbent LECs to provide 60 day notices prior to terminating section 259 agreements.

Federal Communications Commission.
William F. Caton,
Deputy Secretary.

[FR Doc. 03-14814 Filed 6-11-03; 8:45 am]

BILLING CODE 6712-01-P